COMMITTEE FOR PURCHASE FROM PEOPLE WHO ARE BLIND OR SEVERELY DISABLED

Procurement List; Proposed Additions and Deletion

AGENCY: Committee for Purchase From People Who Are Blind or Severely Disabled.

ACTION: Proposed Additions to and Deletion from the Procurement List.

SUMMARY: The Committee is proposing to add products to the Procurement List that will be furnished by a nonprofit agency employing persons who are blind or have other severe disabilities, and deletes a service previously furnished by such agency.

DATES: Comments must be received on or before: May 25, 2015.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products listed below from the nonprofit agency employing persons who are blind or have other severe disabilities.

The following products are proposed for addition to the Procurement List for production by the nonprofit agency listed:

Products

Product Name/NSN(s): File Folder, Single Tab, 1/3 Cut

7530-00-NIB-1105—Letter, Position 2

7530-00-NIB-1106—Letter, Position 3

Distribution: A-List

7530-00-NIB-1107—Legal, Position 1

7530-00-NIB-1108—Legal, Position 2

7530-00-NIB-1109—Legal, Position 3

Distribution: B-List

Mandatory Purchase By: Total and Broad Government Requirements

Mandatory Source of Supply: Association for Vision Rehabilitation and Employment, Inc., Binghamton, NY

Contracting Activity: General Services Administration, New York, NY

Deletion

The following service is proposed for deletion from the Procurement List:

Service

Service Type: Shelf Stocking, Custodial & Warehousing Service

Service is Mandatory for: Travis Air Force Base, Travis AFB, CA

Mandatory Source of Supply: PRIDE Industries, Roseville, CA

Contracting Activity: Defense Commissary Agency, Fort Lee, VA

Barry S. Lineback,
Director, Business Operations.

[FR Doc. 2015-09595 Filed 4-23-15; 8:45 am]

BILLING CODE 6353-01-P